AGENCY FOR INTERNATIONAL DEVELOPMENT

Request for Information Regarding the Global AI Research Agenda; Extension of Comment Period

AGENCY: U.S. Agency for International Development.

ACTION: Request for information; extension of comment period.

SUMMARY: On March 13, 2024, the United States Agency for International Development (USAID) published a request for information (RFI) seeking comment on a Global AI Research Agenda being developed on Safe, Secure, and Trustworthy Development and Use of Artificial Intelligence. The RFI established a April 10, 2024, deadline for the submission of written comments. DOE is extending the comment period to April 24, 2024.

DATES: The comment period for the RFI published on March 13, 2024 (89 FR 18590) (https://www.federalregister.gov/documents/2024/03/14/2024-05357/global-ai-research-agenda) is extended. USAID will accept comments responding to this RFI submitted on or before April 24, 2024.

ADDRESSES: Comments may be submitted by any of the following methods:

Sent as an attachment to gaira_rfi@usaid.gov in any of the following unlocked formats: HTML; ASCII; Word; RTF; Unicode, or .pdf.

Written comments may be submitted by mail to: USAID, IPI/ITR/T, Rm. 2.12-213, RRB, 1300 Pennsylvania Avenue NW, Washington, DC 20004.

FOR FURTHER INFORMATION CONTACT: For questions about this RFI contact: Craig Jolley, gaira_rfi@usaid.gov or 1-202-712-5536.

Accessible Format: USAID will make the RFI available in alternate formats, such as Braille or large print, upon request by persons with disabilities.

SUPPLEMENTARY INFORMATION: On March 13, 2024, the U.S. Agency for International Development (USAID) published a request for information (RFI) in the Federal Register (89 FR 18590) (https://www.federalregister.gov/documents/2024/03/14/2024-05357/global-ai-research-agenda). USAID issued this RFI to assist in carrying out responsibilities under Executive Order 14110 (https://www.federalregister.gov/executive-order/14110) on Safe, Secure, and Trustworthy Development and Use of Artificial Intelligence issued on October 30, 2023. Specifically, the E.O. directs USAID and the State Department to publish a Global AI Research Agenda to guide the objectives and implementation of AI-related research in contexts beyond United States borders.

Authority: Executive Order 14110 of Oct. 30, 2023.

Sabeen V. Dhanani,
Deputy Director, Technology Division, Innovation, Technology & Research Hub (ITR), Bureau for Inclusive Growth, Partnerships, and Innovation.

[FR Doc. 2024-07864 Filed 4-12-24; 8:45 am]

BILLING CODE 6116-01-P